DEPARTMENT OF STATE

[Public Notice: 9556]

Notice of Availability of the Draft Environmental Impact Report/Environmental Impact Statement for the Otay Mesa Conveyance and Disinfection System Project, San Diego County, California, Presidential Permit Application Review

AGENCY: Department of State.

ACTION: Notice of Availability, solicitation of comments.

SUMMARY: The U.S. Department of State (Department) announces availability for public review and comment of the Draft Environmental Impact Report/Environmental Impact Statement for the Otay Mesa Conveyance and Disinfection System Project, San Diego County, California Presidential Permit Application Review (Draft EIR/EIS). This document analyzes the potential environmental effects of issuing a Presidential Permit to the Otay Water District (District) for the construction, connection, operation, and maintenance of transboundary pipeline facilities for the importation of desalinated seawater from Mexico to the United States in San Diego County, California (Otay Water Pipeline). The Draft EIS/EIR was prepared consistent with the National Environmental Policy Act (NEPA) of 1969 (42 U.S.C. Sec. 4321, et seq.), the regulations of the Council on Environmental Quality (CEQ) (40 CFR 1500-1508), and the Department's implementing regulations (22 CFR part 161), and pursuant to the California Environmental Quality Act (CEQA) of 1970. It evaluates the potential environmental impacts of issuing a Presidential Permit to the District to construct, connect, operate, and maintain an approximately four-mile-long, 48- to 54-inch-diameter potable water pipeline, and a metering station as well as a possible pump station and disinfection facility within the Otay Mesa area of the County of San Diego, just north of the United States-Mexico border.

DATES: The Department invites the public, governmental agencies, tribal governments, and all other interested parties to provide comments on the Draft EIS/EIR during the 45-day public comment period. The public comment period starts on May 12, 2016, with the publication of this Federal Register Notice and will end June 27, 2016.

All comments received during the review period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

ADDRESSES: Comments on the Draft EIS/EIR may be submitted at www.regulations.gov by entering the title of this Notice into the search field and following the prompts. Comments may also be submitted by mail, addressed to: Otay Water Pipeline Project Manager, Office of Environmental Quality and Transboundary Issues (OES/EQT): Suite 2726, U.S. Department of State, 2201 C Street NW., Washington, DC 20520. All comments from agencies or organizations should indicate a contact person for the agency or organization.

FOR FURTHER INFORMATION CONTACT: Project details for the Otay Water Pipeline project and a copy of the Presidential Permit application, as well as information on the Presidential Permit process are available on the following Web sites: http://www.state.gov/p/wha/rt/permit/app/otaypermit/index.htm and http://www.owd-desalconveyance.com/. Please refer to these Web sites or contact the Department at the address listed in the ADDRESSES section of this notice.

SUPPLEMENTARY INFORMATION: Executive Order 11423, as amended, delegates to the Secretary of State the President's authority to receive applications for permits for the construction, connection, operation, or maintenance of certain facilities at the borders of the United States, and to issue or deny such Presidential Permits upon a national interest determination. To make this determination, the Department considers many factors, including foreign policy; environmental, cultural and economic impacts; and compliance with applicable law and policy.

In November 2013, the District submitted an application to the Department for a Presidential Permit authorizing the construction, connection, operation, and maintenance of a cross-border water pipeline facility for the proposed project, which would convey desalinated seawater from Mexico to the District's Roll Reservoir in San Diego County, which is approximately four miles northeast of the border.

The proposed Mexican desalination plant (not a part of the proposed project) is envisioned to produce 100 million gallons per day (MGD) of desalinated sea water. The District intends to initially purchase approximately 20-25 MGD of desalinated sea water, and ultimately increase the amount to 50 MGD. Due to seasonal variation in demand, the District anticipates that 10 MGD would be conveyed in the winter months, and up to 50 MGD would be conveyed during peak demand periods in the summer months. Numerous alignment routes for the pipeline were considered; however, after initial consideration of environmental and engineering opportunities and constraints, the District, together with the Department, determined three alternative alignments, and addressed those alignments in the Draft EIR/EIS. The District's preferred alternative is approximately 21,810 linear feet and extends from the border in a northwesterly direction within established right-of-ways and terminates on the east side of the Roll Reservoir.

The District will be responsible for approving the expenditure of public funds for the proposed project and the Department will be responsible for determining whether the proposed project serves the national interest pursuant to Executive Order 11423, and if so, issuing a Presidential Permit authorizing the construction, connection, operation, and maintenance of the cross-border pipeline facility.

Availability of the Draft EIS/EIR: Copies of the Draft EIS/EIR have been distributed to state and governmental agencies, tribal governments, and other interested parties. Printed copies of the document may be obtained by visiting the Otay Mesa-Nestor Library in San Diego, California or by contacting the Otay Project Manager at the above address. The Draft EIS/EIR is available on these project Web sites at http://www.state.gov/p/wha/rt/permit/app/otaypermit/index.htm and http://www.owd-desalconveyance.com/.

Deborah Klepp,
Director, Office of Environmental Quality and Transboundary Issues, Department of State.

[FR Doc. 2016-11282 Filed 5-11-16; 8:45 am]

BILLING CODE 4710-09-P